DEPARTMENT OF ENERGY

Federal Energy Regulatory Commission

[Project No. 3255-016]

Lyonsdale Associates, LLC; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: New Major License.

b. Project No.: 3255.

c. Date Filed: May 29, 2024.

d. Applicant: Lyonsdale Associates, LLC (Lyonsdale Associates).

e. Name of Project: Lyonsdale Hydroelectric Project.

f. Location: On the Moose River in Lewis County, New York.

g. Filed Pursuant to: Federal Power Act, 16 U.S.C. 791(a)-825(r).

h. Applicant Contact: David H. Fox, Senior Director, Regulatory Affairs, Eagle Creek Renewable Energy, LLC, 7315 Wisconsin Ave., Suite 1100W, Bethesda, MD 20814; telephone at (201) 306-5616; email at david.fox@eaglecreekre.com.

i. FERC Contact: Kelly Wolcott, Project Coordinator, Great Lakes Branch, Division of Hydropower Licensing; telephone at (202) 502-6480; email at kelly.wolcott@ferc.gov.

j. Deadline for filing motions to intervene and protests, comments, recommendations, terms and conditions, and prescriptions: July 8, 2025 by 5:00 p.m. (EST) (60 days from the issuance date of this notice); reply comments are due August 22, 2025 by 5:00 p.m. (EST) (105 days from the issuance date of this notice).

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Lyonsdale Hydroelectric Project (P-3255-016).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The project includes a 506.3-foot-long dam that consists of: (1) a 27.5-foot-long intake structure with two 10.5-foot-long slide gates that are equipped with a trashrack with 2.6-inch clear bar spacing; (2) a 57-foot-long non-overflow section with a 5-foot-long debris sluice gate; (3) a 7-foot-long abutment; (4) a 135.3-foot-long section that includes: (a) a 21.5-foot-long spillway with 1.7-foot-high flashboards that have a crest elevation of 1,065.9 feet National Geodetic Vertical Dam of 1929 (NGVD 29); (b) a 28.5-foot-long section with a 20.5-foot-long Pelican gate; and (c) an 85.3-foot-long spillway with 3-foot-high flashboards that have a crest elevation of 1,065.9 feet NGVD 29 (Dam No. 1); (5) a 7-foot-long abutment; (6) a 4-foot-long abutment; (7) a 33.5-foot-long spillway with 3-foot-high flashboards that have a crest elevation of 1,065.9 feet NGVD 29 (Dam No. 2); (8) a 2-foot-long abutment; (9) a 185-foot-long earthen embankment; (10) a 5-foot-long abutment; (11) a 38-foot-long spillway with 3-foot-high flashboards that have a crest elevation of 1,065.9 feet NGVD 29 (Dam No. 3); and (12) a 5-foot-long abutment.

The dam creates an impoundment that has a surface area of 9 acres at an elevation of 1,065.9 feet NGVD 29. The impoundment includes 173-foot-long, 50-foot-long, 45-foot-long retaining walls on the shorelines adjacent to the intake structure. From the impoundment, water flows through the intake structure to a 52-foot-long penstock and a 26-foot-long penstock that convey water to a 35-foot-wide, 58-foot-long powerhouse that includes two 1.5-megawatt (MW) vertical Kaplan turbine-generator units, for a total installed capacity of 3 MW. Water is discharged from the turbines to an approximately 500-foot-long tailrace that discharges to the Moose River.

The project creates the following bypassed reach segments: (1) an approximately 200-foot-long southern segment; and (2) an approximately 70-foot-long segment that bifurcates into: (a) an approximately 350-foot-long middle segment and an approximately 580-foot-long northern segment.

Electricity generated at the project is transmitted to the electric grid via two 400-foot-long, 4.16-kilovolt (kV) generator lead lines and a 4.16/115-kV step-up transformer located approximately 300 feet west of the powerhouse. The minimum and maximum hydraulic capacities of the powerhouse are 260 and 1,400 cubic feet per second (cfs), respectively. The average annual energy production of the project from 2016 through 2023, was 10,745 megawatt-hours.

Project recreation facilities include: (1) an access trail on the north shoreline of the impoundment that consists of an approximately 1,000-foot-long “North Bank Recreation Trail” and an approximately 1,000-foot-long portage trail; and (2) a parking area on the 185-foot-long earthen embankment.

Lyonsdale Associates proposes to revise the project boundary to add 0.1 acre associated with the generator lead line, which would increase the amount of land and water enclosed by the project boundary from 18.4 to 18.5 acres.

Lyonsdale Associates proposes to: (1) continue operating the project in a run-of-river mode by maintaining the normal maximum surface elevation of the impoundment at the flashboard crest elevation of 1,065.9 feet NGVD 29; (2) release a minimum bypassed reach flow of 33 cfs or inflow, whichever is less, from April 1 through November 30; (3) implement an Invasive Species Management Plan and Bat and Eagle Management Plan filed in the license application; (4) consult with the New York State Historic Preservation Officer (New York SHPO) on the need for any measures prior to any ground-disturbing activities; and (5) stop construction and consult with the New York SHPO on the need for any measures if previously unidentified cultural resources are discovered during any future construction activities at the project.

To provide recreation opportunities at the project, Lyonsdale Associates proposes to: (1) maintain the access trail on the north shoreline of the impoundment, including the North Bank Recreation Trail and portage trail, pending acquisition of property rights; (2) maintain the following existing recreation sites as project recreation facilities, pending acquisition of property rights: (a) a hand-carry boat access site on the north shoreline of the impoundment that is associated with the project's portage route; (b) a picnic area that includes a parking area, picnic table, and trash can on the north shoreline of the impoundment; (c) a hand-carry boat access site at the end of the project portage route, approximately 580 feet downstream of the dam; and (d) a South Bank Recreation Area that includes a parking area, informational signage, and shoreline access for anglers on the south shoreline of the impoundment; (3) update and maintain project recreation signs at the South Bank Recreation Area and picnic area to comply with Part 8 of the Commission's regulations; (4) install new directional signs for the portage route and North Bank Recreation Trail; and (5) install barriers at the picnic area and portage trail to deter all-terrain vehicle access. With regards to acquiring property rights, Exhibit G of the license application indicates that Niagara Mohawk Power Corporation owns the property that includes the North Bank Recreation Trail, and Twin Rivers Paper Company, LLC owns the property that includes the portage trail.

m. A copy of the application can be viewed on the Commission's website at http://www.ferc.gov using the “eLibrary” link. Enter the docket number excluding the last three digits in the docket number field to access the document (i.e., P-3255). For assistance, please contact FERC Online Support (see item j above).

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

The Commission's Office of Public Participation (OPP) supports meaningful public engagement and participation in Commission proceedings. OPP can help members of the public, including landowners, community organizations, Tribal members, and others access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, please contact FERC Online Support (see item j above).

o. The applicant must file no later than 60 days following the date of issuance of this notice: (1) a copy of the water quality certification; (2) a copy of the request for certification, including proof of the date on which the certifying agency received the request; or (3) evidence of waiver of water quality certification.

p. Procedural schedule: The application will be processed according to the following schedule. Revisions to the schedule will be made as appropriate.

Milestone | Target date
Filing of Motions to Intervene, Protests, Comments, Recommendations, Terms, Conditions, and Prescriptions | July 2025.
Filing of Reply Comments | August 2025.

q. Final amendments to the application must be filed with the Commission no later than 30 days from the issuance date of this notice.

Dated: May 9, 2025.
Debbie-Anne A. Reese,
Secretary.

[FR Doc. 2025-08653 Filed 5-14-25; 8:45 am]

BILLING CODE 6717-01-P